DEPARTMENT OF THE TREASURY

Office of Thrift Supervision

[AC-3: OTS Nos. H-4089 and 04354]

Dearborn Financial Corporation, Lawrenceburg, IN; Approval of Conversion Application

Notice is hereby given that on May 13, 2004, the Assistant Managing Director, Examinations and Supervision—Operations, Office of Thrift Supervision (OTS), or her designee, acting pursuant to delegated authority, approved the application of Dearborn Savings Association, F.A., Lawrenceburg, Indiana, to convert to the stock form of organization. Copies of the application are available for inspection by appointment (phone number: 202-906-5922 or e-mail: Public.Info@OTS.Treas.gov) at the Public Reading Room, 1700 G Street, NW., Washington, DC 20552, and the OTS Southeast Regional Office, 1475 Peachtree Street, NE., Atlanta, GA 30309.

Dated: May 17, 2004.
By the Office of Thrift Supervision.
Nadine Y. Washington,
Corporate Secretary.

[FR Doc. 04-11456 Filed 5-19-04; 8:45 am]

BILLING CODE 6720-01-M